DEPARTMENT OF COMMERCE

International Trade Administration

[A-570-900]

Diamond Sawblades and Parts Thereof From the People's Republic of China: Final Results of Antidumping Duty Administrative Review; 2010-2011

AGENCY: Import Administration, International Trade Administration, Department of Commerce.

SUMMARY: On December 10, 2012, the Department of Commerce (the Department) published the preliminary results of the administrative review of the antidumping duty order on diamond sawblades and parts thereof (diamond sawblades) from the People's Republic of China (the PRC). The period of review (POR) is November 1, 2010, through October 31, 2011. For the final results, we continue to find that certain companies covered by this review made sales of subject merchandise at less than normal value.

DATES: As of June 17, 2013.

FOR FURTHER INFORMATION CONTACT: Michael Romani or Yang Jin Chun, AD/CVD Operations, Office 1, Import Administration, International Trade Administration, U.S. Department of Commerce, 14th Street and Constitution Avenue NW., Washington, DC 20230; telephone: (202) 482-0198 or (202) 482-5760, respectively.

SUPPLEMENTARY INFORMATION:

Background

On December 10, 2012, the Department published the preliminary results of the administrative review of the antidumping duty order on diamond sawblades from the PRC.¹ We received case and rebuttal briefs with respect to the Preliminary Results and, at the request of interested parties, we held a hearing on April 15, 2013. We extended the due date for the final results of review to June 10, 2013.² We have conducted this administrative review in accordance with section 751 of the Tariff Act of 1930, as amended (the Act).

¹ See Diamond Sawblades and Parts Thereof From the People's Republic of China: Preliminary Results of Antidumping Duty Administrative Review: 2010-2011, 77 FR 73417 (December 10, 2012) (Preliminary Results).

² See the memorandum to Gary Taverman, Senior Advisor for Antidumping and Countervailing Duty Operations, entitled “Diamond Sawblades and Parts Thereof from the Republic of Korea and the People's Republic of China: Extension of Deadline for Final Results of Antidumping Duty Administrative Reviews” dated April 29, 2013.

Fraud Allegation

On April 5, 2012, the Diamond Sawblades Manufacturers Coalition (the petitioner) alleged that Korean respondents Ehwa Diamond Industrial Co., Ltd., Shinhan Diamond Industrial Co., Ltd. and SH Trading Inc., and Hyosung Diamond Industrial Co., Ltd., and their respective Chinese subsidiaries Weihai Xiangguang Mechanical Industrial Co., Ltd. (Weihai), Qingdao Shinhan Diamond Industrial Co., Ltd. (Qingdao Shinhan), and Qingdao Hyosung Diamond Tools Co., Ltd. (Qingdao Hyosung),³ sold diamond sawblades into the United States bearing false country of origin designations. On March 19, 2013, we issued a post-preliminary analysis memorandum finding that the information submitted by Weihai and Qingdao Shinhan is reliable for the final results of the review.⁴ For the final results, we continue to find the information Weihai and Qingdao Shinhan submitted in this review to be reliable.⁵

³ Qingdao Hyosung is not a respondent in this review.

⁴ See the memorandum to Paul Piquado, Assistant Secretary for Import Administration, entitled “Administrative Review of the Antidumping Duty Order on Diamond Sawblades and Parts Thereof from the People's Republic of China for the 2010-2011 Period: Post-Preliminary Analysis” dated March 19, 2013. See also the memorandum to Paul Piquado, Assistant Secretary for Import Administration, from Gary Taverman, Senior Advisor for Antidumping and Countervailing Duty Operations, entitled “Issues and Decision Memorandum for the Administrative Review of the Antidumping Duty Order on Diamond Sawblades and Parts Thereof from the People's Republic of China covering the Period November 1, 2010, through October 31, 2011” dated June 10, 2013 (Final Decision Memorandum), which is hereby adopted by this notice, at pages 3-4.

⁵ See Final Decision Memorandum for more details.

Scope of the Order

The merchandise subject to the order is diamond sawblades. The diamond sawblades subject to the order are currently classifiable under subheadings 8202 to 8206 of the Harmonized Tariff Schedule of the United States (HTSUS), and may also enter under 6804.21.00. The HTSUS subheadings are provided for convenience and customs purposes. A full description of the scope of the order is contained in the Final Decision Memorandum. The written description is dispositive.

Analysis of Comments Received

All issues raised in the case briefs by parties to this administrative review are addressed in the Final Decision Memorandum. A list of the issues raised is attached to this notice as an appendix. The Final Decision Memorandum is a public document and is on file electronically via Import Administration's Antidumping and Countervailing Duty Centralized Electronic Service System (IA ACCESS). Access to IA ACCESS is available to registered users at http://iaaccess.trade.gov and is available to all parties in the Central Records Unit, room 7046 of the main Department of Commerce building. In addition, a complete version of the Final Decision Memorandum can be accessed directly on the Import Administration Web site at http://ia.ita.doc.gov/frn/index.html. The signed Final Decision Memorandum and the electronic version of the Final Decision Memorandum are identical in content.

Final Determination of No Shipments

We continue to find that Qingdao Shinhan, which has a separate rate, did not have any exports of subject merchandise during the POR. Consistent with our “automatic assessment” clarification, we will issue appropriate instructions to CBP based on our final results.⁶

⁶ See Non-Market Economy Antidumping Proceedings: Assessment of Antidumping Duties, 76 FR 65694 (October 4, 2011) (Assessment Practice Refinement); see also the “Assessment” section of this notice, below.

Changes Since the Preliminary Results

Based on our analysis of comments received, we have made revisions that have changed the results for certain companies, including the valuation of certain factors of production. Additionally, we have made calculation programming changes for the final results. For further details on the changes we made for these final results, see the company-specific analysis memoranda, the Final Decision Memorandum, and the final surrogate value memorandum dated concurrently with this notice.

Final Results of the Review

As a result of this administrative review, we determine that the following weighted-average dumping margins exist for the period November 1, 2010, through October 31, 2011:

Company ᵃ | Margin (percent)
Advanced Technology & Materials Co., Ltd | 0.00
AT&M International Trading Co., Ltd | 0.00
Beijing Gang Yan Diamond Products Co | 0.00
Bosun Tools Co., Ltd | 8.10
Chengdu Huifeng Diamond Tools Co., Ltd | 8.10
Cliff International Ltd | 0.00
Danyang Huachang Diamond Tools Manufacturing Co., Ltd | 8.10
Danyang NYCL Tools Manufacturing Co., Ltd | 8.10
Danyang Weiwang Tools Manufacturing Co., Ltd | 8.10
Guilin Tebon Superhard Material Co., Ltd | 8.10
Hangzhou Deer King Industrial & Trading Co., Ltd | 8.10
Hebei Husqvarna-Jikai Diamond Tools Co., Ltd | 8.10
Huzhou Gu's Import & Export Co., Ltd | 8.10
HXF Saw Co., Ltd | 0.00
Jiangsu Fengtai Diamond Tool Manufacture Co., Ltd | 8.10
Jiangsu Inter-China Group Corporation | 8.10
Jiangsu Youhe Tool Manufacturer Co., Ltd | 8.10
Quanzhou Zhongzhi Diamond Tool Co. Ltd | 8.10
Rizhao Hein Saw Co., Ltd | 8.10
Saint-Gobain Abrasives (Shanghai) Co., Ltd | 8.10
Shanghai Robtol Tool Manufacturing Co., Ltd | 8.10
Weihai Xiangguang Mechanical Industrial Co., Ltd ᵇ | 8.10
Wuhan Wanbang Laser Diamond Tools Co | 8.10
Xiamen ZL Diamond Technology Co., Ltd | 8.10
Zhejiang Wanli Tools Group Co., Ltd | 8.10
PRC-Wide Entity ᶜ | 164.09
ᵃ During this segment of the proceeding, we identified certain name variations for several companies. See Preliminary Results, 77 FR at 73418-49, and accompanying Preliminary Decision Memorandum at 14.
ᵇ Weihai exported some of the subject merchandise to the United States through its Korean parent company, Ehwa Diamond Industrial Co., Ltd. See, e.g., Weihai's March 23, 2012, section A response at 1-2.
ᶜ The deadline to file a separate rate application, separate rate certification, or a notification of no sales, exports or entries is 60 days after the initiation of the administrative review, which in this case was February 28, 2012. Therefore, as of February 29, 2012, the remaining companies under review that did not demonstrate eligibility for a separate rate effectively became part of the PRC-wide entity. Accordingly, the PRC-wide entity includes the following companies: Central Iron and Steel Research Institute Group, China Iron and Steel Research Institute Group, Danyang Aurui Hardware Products Co., Ltd., Danyang Dida Diamond Tools Manufacturing Co., Ltd., Danyang Hantronic, Danyang Tsunda Diamond Tools Co., Ltd., Danyang Youmei Tools Co., Ltd., Electrolux Construction Products (Xiamen) Co. Ltd., Fujian Quanzhou Wanlong Stone Co., Ltd., Hebei Jikai Industrial Group Co., Ltd., Hua Da Superabrasive Tools Technology Co., Ltd., Huachang Diamond Tools Manufacturing Co., Ltd., Jiangsu Fengyu Tools Co., Ltd., Jiangyin Likn Industry Co., Ltd., Protech Diamond Tools, Pujiang Talent Diamond Tools Co., Ltd., Quanzhou Shuangyang Diamond Tools Co., Ltd., Shanghai Deda Industry & Trading Co., Ltd., Shijiazhuang Global New Century Tools Co., Ltd., Sichuan Huili Tools Co., Task Tools & Abrasives, Wuxi Lianhua Superhard Material Tools Co., Ltd., Zhejiang Tea Import & Export Co., Ltd., Zhejiang Wanda Import and Export Co., Zhejiang Wanda Tools Group Corp., Zhejiang Wanli Super-hard Materials Co., Ltd., and Wanli Tools Group.

Assessment

Pursuant to section 751(a)(2)(A) of the Act and 19 CFR 351.212(b), the Department shall determine, and U.S. Customs and Border Protection (CBP) shall assess, antidumping duties on all appropriate entries covered by this review. For customers or importers of Weihai for which we do not have entered value, we calculated customer-/importer-specific antidumping duty assessment amounts based on the ratio of the total amount of dumping duties calculated for the examined sales of subject merchandise to the total sales quantity of those same sales.⁷ For customers or importers of Weihai for which we received entered-value information, we have calculated customer/importer-specific antidumping duty assessment rates based on customer-/importer-specific ad valorem rates in accordance with 19 CFR 351.212(b)(1).

⁷ See 19 CFR 351.212(b)(1).

The Department has applied the assessment rate calculation method adopted in Final Modification for Reviews, i.e., on the basis of monthly average-to-average comparisons using only the transactions associated with that importer with offsets being provided for non-dumped comparisons.⁸ For all non-selected respondents that received a separate rate, we will instruct CBP to apply an antidumping duty assessment rate of 8.10 percent ⁹ to all entries of subject merchandise that entered the United States during the POR. For all other companies, we will instruct CBP to apply an antidumping duty assessment rate of 164.09 percent ¹⁰ to all entries of subject merchandise exported by these companies.

⁸ See Antidumping Proceeding: Calculation of the Weighted-Average Dumping Margin and Assessment Rate in Certain Antidumping Duty Proceedings; Final Modification, 77 FR 8103 (February 14, 2012) (Final Modification for Reviews).

⁹ See Final Decision Memorandum at 5.

¹⁰ See Diamond Sawblades and Parts Thereof From the People's Republic of China and the Republic of Korea: Antidumping Duty Orders, 74 FR 57145, 57147 (November 4, 2009).

On October 24, 2011, the Department announced a refinement to its assessment practice in NME cases. Pursuant to this refinement in practice, for entries that were not reported in the U.S. sales databases submitted by companies individually examined during this review, the Department will instruct CBP to liquidate such entries at the PRC-wide rate.¹¹ In addition, for companies where the Department determined that the exporter under review had no shipments of the subject merchandise, any suspended entries that entered under that exporter's case number (i.e., at that exporter's rate) will be liquidated at the PRC-wide rate.¹²

¹¹ For a full discussion of this practice, see Assessment Practice Refinement.

¹² Id.

We intend to issue assessment instructions to CBP 15 days after the date of publication of the final results of review.

Cash Deposit Requirements

The following cash deposit requirements will be effective upon publication of these final results of review for all shipments of the subject merchandise from the PRC entered, or withdrawn from warehouse, for consumption on or after the publication date as provided by section 751(a)(2)(C) of the Act: (1) For subject merchandise exported by the companies listed above that have separate rates, the cash deposit rate will be the rate established in this final results of review for each exporter as listed above; ¹³ (2) for previously investigated or reviewed PRC and non-PRC exporters not listed above that received a separate rate in a prior segment of this proceeding, the cash deposit rate will continue to be the exporter-specific rate; (3) for all PRC exporters of subject merchandise that have not been found to be entitled to a separate rate, the cash deposit rate will be that for the PRC-wide entity; (4) for all non-PRC exporters of subject merchandise which have not received their own rate, the cash deposit rate will be the rate applicable to the PRC exporter that supplied that non-PRC exporter. These deposit requirements shall remain in effect until further notice.

¹³ We note that, pursuant to a section 129 determination, the Department announced it would instruct CBP “to discontinue the collection of cash deposits for estimated antidumping duties for AT&M.” See Certain Frozen Warmwater Shrimp From the People's Republic of China and Diamond Sawblades and Parts Thereof From the People's Republic of China: Notice of Implementation of Determinations Under Section 129 of the Uruguay Round Agreements Act and Partial Revocation of the Antidumping Duty Orders, 78 FR 18958 (March 28, 2013). However, because of an injunction issued by the U.S. Court of International Trade in CIT Ct. No. 09-00511, the Department also explained that “future entries of such merchandise are subject to suspension of liquidation at the cash deposit rate of zero. Subsequent action will be consistent with the final court decision.” Id. at 18960, n.20. Thus, while the Department continues to be enjoined from ordering the lifting of suspension of liquidation regarding incoming entries, future entries of such merchandise will continue to be subject to suspension of liquidation at the cash deposit rate of zero, consistent with the final section 129 determination.

Notification

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: June 10, 2013.
Paul Piquado,
Assistant Secretary for Import Administration.

Appendix

1. Separate Rate

2. Corporate Affiliation

3. Targeted Dumping Allegation

4. Post-Preliminary FOP Data

5. Surrogate Country

6. Surrogate Values

—Bronze Powder

—Cores

—Diamond Powder

—Energy Inputs

—Financial Ratios

—Labor Costs

—Oxygen

—Steel Types

—Truck Freight

—The Philippine Data

7. U.S. Repacking Expense

[FR Doc. 2013-14374 Filed 6-14-13; 8:45 am]

BILLING CODE 3510-DS-P